ENVIRONMENTAL PROTECTION AGENCY

[FRL-9970-44-OARM]

National Advisory Council for Environmental Policy and Technology

AGENCY: Environmental Protection Agency (EPA).

ACTION: Request for Nominations to the National Advisory Council for Environmental Policy and Technology. * Nomination Deadline: January 3, 2018.

SUMMARY: The U.S. Environmental Protection Agency (EPA) invites nominations from a diverse range of qualified candidates representing the following sectors: Academia; state, local, and tribal governments; business and industry; and, non-governmental organizations.

Potential vacancies are anticipated to be filled in April, 2018. Sources in addition to this Federal Register Notice may be utilized in the solicitation of nominees.

FOR FURTHER INFORMATION CONTACT: Eugene Green, Designated Federal Officer, U.S. EPA; telephone (202) 564-2432; fax (202) 564-8129; email green.eugene@epa.gov.

SUPPLEMENTARY INFORMATION:

Background: The National Advisory Council for Environmental Policy and Technology (NACEPT) is a federal advisory committee chartered under the Federal Advisory Committee Act (FACA), Public Law 92-463. EPA established NACEPT in 1988 to provide advice to the EPA Administrator on a broad range of environmental policy, management and technology issues. Members serve as representatives from academia, industry, non-governmental organizations, and state, local, and tribal governments. Members are appointed by the EPA Administrator for two year terms. The Council usually meets 2-3 times annually face-to-face or via video/teleconference and the average workload for the members is approximately 10 to 15 hours per month. Members serve on the Council in a voluntary capacity. However, EPA provides reimbursement for travel and incidental expenses associated with official government business. EPA is seeking nominations from candidates representing all sectors noted above. Within these sectors, EPA encourages nominees with a strong background in the following areas to apply: Data management/monitoring, social science, economic initiatives, public health, biodiversity, community sustainability, environmental policy/management, and environmental justice. Nominees will be considered according to the mandates of the Federal Advisory Committee Act (FACA), which requires committees to maintain diversity across a broad range of constituencies, sectors, groups, and geographical locations. EPA values and embraces diversity. In an effort to obtain nominations of diverse candidates, EPA welcomes nominations from women and men of all racial and ethnic groups, as well as persons with disabilities. Please note that interested candidates may self-nominate.

The following criteria will be used to evaluate nominees:

—Professional knowledge of environmental policy, management, and technology related issues.

—Demonstrated ability to assess and analyze environmental challenges with objectivity and integrity.

—Middle/Senior-level leadership experience that fills a current need on the Council.

—Excellent interpersonal, oral and written communication skills, and consensus-building skills.

—Ability to volunteer approximately 10 to 15 hours per month to the Council's activities, including participation in face-to-face meetings, video/teleconference meetings and preparation of documents for the Council's reports and advice letters.

EPA's policy is that, unless otherwise prescribed by statute, members generally are appointed to two year terms.

Prospective candidates interested in being considered for an appointment to serve on the Council, should submit the following items to process your nomination package: Nomination packages must include a brief statement of interest, resume, or curriculum vitae (CV), and a short biography (no more than two paragraphs) describing your professional and educational qualifications, including a list of relevant activities and any current or previous service on advisory committees. The statement of interest, resume or CV, and short biography should include the candidate's full name, name and address of current organization, position title, email address, and daytime telephone number(s).

In preparing your statement of interest, please describe how your background, knowledge, and experience will bring value to the work of the committee, and how these qualifications would contribute to the overall diversity of the Council. Also, be sure to describe any previous involvement with the Agency through employment, grant funding and/or contracting sources.

To help the Agency in evaluating the effectiveness of its outreach efforts, also tell us how you learned of this opportunity in your statement of interest (cover letter).

Anyone interested in being considered for nomination is encouraged to submit a nomination (application) package by the submission deadline on January 3, 2018. To expedite the process, it is preferable to submit the nomination package with the required information/documents electronically (Word/PDF) to green.eugene@epa.gov. Please reference: “NACEPT 2018 Membership Nomination Package for (insert candidate's name)” in the subject heading.

Dated: October 20, 2017.
Eugene Green,
Designated Federal Officer.

[FR Doc. 2017-25188 Filed 11-20-17; 8:45 am]

BILLING CODE 6560-50-P